DEPARTMENT OF LABOR

Employment and Training Administration

[TA-W-40,064]

H&H Tool, Meadville, PA; Notice of Termination of Investigation

Pursuant to section 221 of the Trade Act of 1974, an investigation was initiated on September 24, 2001, in response to a worker petition which was filed by a company official and three additional petitioners, on behalf of workers at H&H Tool, Meadville, Pennsylvania. The workers produce precision machine parts for the automated assembly machine industry.

The petitioners have requested that the petition be withdrawn. Consequently further investigation in this case would serve no purpose, and the investigation has been terminated.

Dated: Signed at Washington, DC this 5th day of November, 2001.
Linda G. Poole,
Certifying Officer, Division of Trade Adjustment Assistance.

[FR Doc. 01-28987 Filed 11-19-01; 8:45 am]

BILLING CODE 4510-30-M